DEPARTMENT OF THE INTERIOR

Fish and Wildlife Service

Endangered and Threatened Species Permit Applications

AGENCY: Fish and Wildlife Service, Interior.

ACTION: Notice of receipt of applications.

SUMMARY: The following applicants have applied for a scientific research permit to conduct certain activities with endangered species pursuant to section 10(a)(1)(A) of the Endangered Species Act of 1973, as amended.

DATES: To ensure consideration, written comments must be received on or before June 30, 2003.

ADDRESSES: Written comments should be submitted to the Chief, Endangered Species Division, Ecological Services, P.O. Box 1306, Albuquerque, New Mexico 87103. Documents and other information submitted with these applications are available for review, subject to the requirements of the Privacy Act and Freedom of Information Act. Documents will be available for public inspection, by appointment only, during normal business hours at the U.S. Fish and Wildlife Service, 500 Gold Avenue SW., Room 4102, Albuquerque, New Mexico. Please refer to the respective permit number for each application when submitting comments. All comments received, including names and addresses, will become part of the official administrative record and may be made available to the public.

FOR FURTHER INFORMATION CONTACT: Chief, Endangered Species Division, (505) 248-6920.

SUPPLEMENTARY INFORMATION:

Permit No. TE-069360

Applicant: Robert Forrest, Mesa, Arizona

Applicant requests a new permit for research and recovery purposes to conduct presence/absence surveys for the following species within Arizona: southwestern willow flycatcher (Empidonax traillii extimus), cactus ferruginous pygmy owl (Glaucidium brasilianum cactorum), Yuma clapper rail (Rallus longirostris yumanensis), northern aplomado falcon (Falco femoralis septentrionalis), California condor (Gymnogyps californianus), Sonoran pronghorn (Antilocapra americana sonoriensis), humpback chub (Gila cypha), Virgin River chub (Gila robusta semidnuda), Yaqui chub (Gila purpurea), Colorado pikeminnow (Ptychocheilus lucius), desert pupfish (Cyprinodon macularius), razorback sucker (Xyrauchen texanus), Gila (incl. Yaqui) topminnow (Poeciliopsis occidentalis), Gila trout (Oncorhynchus gilae), and woundfin (Plagopterus argentissimus).

Permit No. TE-833868

Applicant: URS Corporation, Tucson, Arizona

Applicant requests an amendment to an existing permit to allow presence/absence surveys for the following species within Arizona: Colorado pikeminnow (Ptychocheilus lucius), desert pupfish (Cyprinodon macularius), and Gila (incl. Yaqui) topminnow (Poeciliopsis occidentalis).

Permit No. TE-045236

Applicant: SWCA Environmental, Inc., Phoenix, Arizona

Applicant requests an amendment to an existing permit to allow presence/absence surveys for northern aplomado falcon (Falco femoralis septentrionalis) within New Mexico.

Permit No. TE-041868

Applicant: Kevin Hamann, Tijeras, New Mexico.

Applicant request an amendment to an existing permit to allow presence/absence surveys for cactus ferruginous pygmy owl (Glaucidium brasilianum cactorum) within Arizona.

Permit No. TE-069320

Applicant: KBA EnviroScience, Inc., Lewisville, Texas.

Applicant requests a new permit for research and recovery purposes to conduct presence/absence surveys and baiting out activities for the American burying beetle (Nicrophorus americanus) within Oklahoma.

Permit No. TE-799099

Applicant: Eagle Ecological Services, Inc., Santa Fe, New Mexico.

Applicant requests an amendment to an existing permit to allow presence/absence surveys for least tern (Sterna antillarum) within New Mexico and Texas.

Permit No. TE-020844

Applicant: Engineering and Environmental Consultants, Inc., Tucson, Arizona.

Applicant requests an amendment to an existing permit to allow presence/absence surveys for Yuma clapper rail (Rallus longirostris yumanensis) within Arizona.

Permit No. TE-069849

Applicant: Phase One Technologies, LLC, Houston, Texas.

Applicant requests a new permit for research and recovery purposes to allow presence/absence surveys for the following species within Texas: red-cockaded woodpecker (Picoides borealis), Attwater's greater prairie-chicken (Tympanuchus cupido attwateri), whooping crane (Grus americana), brown pelican (Pelecanus occidentalis), piping plover (Charadrius melodus), Eskimo curlew (Numenius borealis), and least tern (Sterna antillarum).

Permit No. TE-069848

Applicant: Ross Rasmussen, Plano, Texas.

Applicant requests a new permit for research and recovery purposes to allow presence/absence surveys for golden-cheeked warbler (Dendroica chrysoparia) and black-capped vireo (Vireo atricapillus) within Texas; northern aplomado falcon (Falco femoralis septentrionalis) within Arizona, New Mexico, and Texas; and southwestern willow flycatcher (Empidonax traillii extimus) within Arizona, New Mexico, Texas, and California.

Permit No. TE-069847

Applicant: Muukui-ci Cultural and Environmental Services, LLC., Aztec, New Mexico.

Applicant requests a new permit for research and recovery purposes to allow presence/absence surveys for southwestern willow flycatcher (Empidonax traillii extimus) within Arizona, New Mexico, Utah, and Colorado.

Permit No. TE-038608

Applicant: USGS, Biological Research Division, Sonoran Desert Field Station, Tucson, Arizona.

Applicant requests an amendment to an existing permit to allow presence/absence surveys for razorback sucker (Xyrauchen texanus) within Arizona.

Permit No. TE-068896

Applicant: Cynthia Baker, Austin, Texas.

Applicant requests a new permit for research and recovery purposes to allow presence/absence surveys and nest monitoring for golden-cheeked warbler (Dendroica chrysoparia) and black-capped vireo (Vireo atricapillus) within Texas.

Permit No. TE-022190

Applicant: Arizona-Sonora Desert Museum, Tucson, Arizona.

Applicant requests an amendment to an exiting permit to allow presence/absence surveys for cactus ferruginous pygmy owl (Glaucidium brasilianum cactorum) within Arizona.

Authority: 16 U.S.C. 1531, et seq.

Dated: May 6, 2003.
Susan MacMullin,
Acting Assistant Regional Director, Ecological Services, Region 2, Albuquerque, New Mexico.

[FR Doc. 03-13381 Filed 5-28-03; 8:45 am]

BILLING CODE 4310-55-P